DEPARTMENT OF TRANSPORTATION

Federal Transit Administration

[Docket No: FTA-2008-0002]

National Transit Database: Amendments to Urbanized Area Annual Reporting Manual

Provider: Federal Transit Administration (FTA), DOT.

ACTION: Notice of Amendments to 2008 National Transit Database Urbanized Area Annual Reporting Manual.

SUMMARY: This notice announces the adoption of certain amendments for the Federal Transit Administration's (FTA) 2008 National Transit Database (NTD) Urbanized Area Annual Reporting Manual (Annual Manual). On February 7, 2008, FTA published a notice in the Federal Register (73 FR 7361) inviting comments on proposed amendments to the 2008 Annual Manual. This notice provides responses to those comments, and announces the adoption of certain amendments for the 2008 Annual Manual, as well as the adoption of some amendments to take effect for the 2009 Report Year.

DATES: Effective Date: August 6, 2008.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Recipients of FTA's Urbanized Area Formula Program (Section 5307) and Other Than Urbanized Area Formula Program (Section 5311) are required by statute to submit data to the NTD. These data are used to “help meet the needs of * * * the public for information on which to base public transportation service planning * * * ” (49 U.S.C. 5335). Other transit providers in urbanized areas report to the NTD under these requirements on a voluntary basis for purposes of including their data in the apportionment of Urbanized Area Formula Grants. FTA details the NTD reporting requirements for urbanized area transit providers in the NTD Urbanized Area Annual Reporting Manual (Annual Manual).

Currently, over 650 transit providers in urbanized areas report to the NTD through an Internet-based reporting system. Each year, performance data from these submissions are used to apportion over $5 billion of FTA funds under the Urbanized Area Formula and the Fixed-Guideway Modernization Grants Programs. These data are also used in the annual National Transit Summaries and Trends report, the biennial Conditions and Performance Report to Congress, and in meeting FTA's obligations under the Government Performance and Results Act.

In an ongoing effort to improve the NTD Internet reporting system and to be responsive to the needs of transit providers reporting to the NTD, and to the needs of the transit data user community, FTA annually refines and clarifies reporting requirements to the NTD. This notice announces the adoption of certain amendments for the 2008 Annual Manual, as well as the adoption of some amendments to take effect for the 2009 Report Year.

II. Comments and FTA Response to Comments

On February 7, 2008, FTA published a notice in the Federal Register (73 FR 7361) inviting comments on proposed amendments to the 2008 Annual Manual. FTA received responses from seven commenters. Three of the commenters made comments on the set of amendments as a whole. One expressed support for the package of amendments as a whole and two commenters suggested that most of the proposed amendments should not take effect until the 2009 Report Year, in order to give reporters sufficient time to prepare reports under the new requirements. FTA agrees with the commenters and will therefore delay many of the proposed amendments until the 2009 Report Year, particularly those that impact relationships with purchased transportation providers. FTA will respond to all comments based on each proposed amendment.

(a) Contractual Relationship (B-30) Form

FTA proposed to revamp this form to allow reporters to clearly report three separate types of relationships: (1) Traditional purchased transportation contracts; (2) taxicab contracts for demand response service; and (3) pass-through relationships. Under this proposal, taxicab contracts for demand response service would become a third type of service under the NTD, with reduced reporting requirements on the S-10, and no reporting requirements for the A-10 (asset inventory) form. FTA received one comment in support of the proposed changes.

FTA Response: Based on the above comments requesting that changes impacting the reporting requirements for purchased transportation services be delayed until the 2009 Report Year, FTA agrees to delay implementation of this amendment until the 2009 Report Year. The above requirements will be reflected in the 2009 Annual Manual. To support the transition to reduced reporting requirements for taxicab demand response contracts in 2009, FTA will request that the following data elements on the S-10 form be reported separately for taxicab demand response services from all other purchased transportation demand response services: Vehicles Operated in Maximum Service, Vehicles Available for Maximum Service, Vehicle Revenue Miles, Vehicle Revenue Hours, Unlinked Passenger Trips, ADA Unlinked Passenger Trips, and Passenger Miles Traveled. FTA will automatically grant a waiver from this requirement for the 2008 Report Year to any transit provider with both taxicab demand response services and regular purchased transportation demand response services that is unable to report these data separately for the taxicab demand response services in 2008.

FTA received one other comment, objecting to the reporting of contract administration costs on the B-30.

FTA Response: FTA has long required the reporting of contract administration costs under the label of “other costs incurred by buyer.” This is not a new reporting requirement. The reporting of contract administration costs is essential for understanding the true costs of purchased transportation services relative to directly operated services. In response to this comment, FTA will amend the titles and definitions on the B-30 form to make the reporting of information more intuitive, but without altering or increasing the existing reporting requirements.

(b) Funds Expended and Earned (F-10) Form

FTA proposed to only require transit providers to separate funds earned and spent on operations from funds earned and spent on capital in the context of fare revenues, other directly-generated revenues (e.g. parking and advertising revenues), contributed services (e.g. services provided directly by another government body), the various sources of Federal funds, total state government revenues, total local government revenues, and total revenues from independent political entities. FTA proposed to retain the requirement to continue to report total funds earned from each separate type of tax at the local and state levels.

Two commenters voiced support for this proposal, proposing that FTA go further and consolidate expenditure reporting for the different categories of directly-generated revenues (e.g. fares, advertising, or concessions.)

FTA Response: FTA agrees with the above comments and will adopt the suggestion to consolidate expenditure reporting for the different categories of directly-generated revenues on the F-10 Form. FTA will defer implementation of this amendment until the 2009 Report Year. The above requirements will be reflected in the 2009 Annual Manual.

(c) Bonds and Loans

FTA proposed to eliminate the requirement to report Bond and Loan Payments separately for each category of funding. Instead, FTA proposed simplified bond and loan reporting that would require transit providers to report: (1) Year-beginning principal outstanding; (2) new bonds and loans (new principal and interest); (3) total interest paid; (4) total principal repaid; and (5) total year-end principal and interest outstanding.

FTA received one comment in support of this proposal. Another commenter objected only to the proposal to eliminate the source of funds used to repay the bonds and loans. A third commenter objected to reporting interest expenses on the F-10 Form instead of on the F-40 Form.

FTA Response: FTA adopts the suggestion to retain the reporting of the source of funds used to repay bonds and loans. FTA does not adopt the suggestion to continue the reporting of interest on the F-40 Form. FTA believes that it would be much easier and more convenient to have all reporting related to bonds and loans in a single place. Based on the above comments, FTA will also defer implementation of this amendment until the 2009 Report Year. The above requirements will be reflected in the 2009 Annual Manual.

(d) Uses of Capital (F-20) Form

FTA proposed to reduce the reporting requirements by combining the categories for Fare Revenue Collection Equipment and Communication and Information Systems into a single category for Intelligent Transportation Systems (ITS.)

FTA received one comment in support of this proposal, and two comments objecting to this proposal that it was insufficiently defined.

FTA Response: FTA understands the comments that the proposed Intelligent Transportation Systems (ITS) category is insufficiently defined and therefore withdraws the above proposal. FTA will reconsider its definitions for capital expenditure reporting, and provide a more comprehensive proposal for public comment in a future report year.

(e) Operating Expenses (F-30) Form

FTA proposed to combine the object classes for Fuels and Lubricants and Tires and Lubes, as well as the object classes for Taxes and Miscellaneous Expenses. FTA also proposed to: (1) Eliminate the reporting of Fuels and Lubes object classes under the Non-Vehicle Maintenance and General Administration operating functions; (2) eliminate reporting of the Utilities object class under the Non-Vehicle Maintenance operating function; and (3) only permit the Casualty and Liability and Miscellaneous Expenses object classes to be reported under the General Administration operating function.

FTA received three comments, all objecting to various parts of the proposal that would have unintended consequences. Two of the comments specifically recommended that Fuels and Lubricants be retained as a separate object class. One of the comments noted that restricting the reporting of Casualty and Liability object class to the General Administration function was in conflict with the guidance in the Uniform System of Accounts (USOA). One comment suggested that all object classes for which there is not a specific interest should be consolidated into a single object class for Other Expenses.

FTA Response: FTA withdraws its proposal for combining object classes. FTA will evaluate the suggestion to consolidate unneeded object classes into a single object class for Other Expenses, and consider proposing it as an amendment for public comment in a future report year. FTA will also only restrict certain object classes to being reported under certain functions to the extent that those restrictions are explicitly defined in the Uniform System of Accounts.

(f) Operating Expenses Summary (F-40) Form

FTA proposes to eliminate collecting Funds Not Applied, Depreciation, Amortization of Intangibles, Interest Expenses, Leases, and Reconciling Items. FTA received two comments objecting to these changes. Both comments suggested that these items should be retained, along with a requirement that these lines must be used to reconcile a transit provider's NTD report with their audited, published accounts.

FTA Response: FTA agrees with the commenters and withdraws its proposal. FTA will consider proposing an amendment to require the use of the F-40 Form to reconcile a reporter's NTD reports and their audited published accounts for a future report year.

(g) Operator's Wages (F-50) Form

FTA proposed to discontinue this form, and received one comment in favor of this proposal.

FTA Response: FTA adopts the proposal. The F-50 form will be eliminated for the 2008 Report Year.

(h) Service (S-10) Form

FTA proposed to replace the reporting of Total Actual Hours and Total Actual Miles with the reporting of Deadhead Hours and Deadhead Miles. Additionally, FTA proposed to eliminate the reporting of Charter Service Hours and of School Bus Hours and to add the reporting of Other Hours and Other Miles.

FTA received one comment in support of these changes. Another comment supported the proposal, but recommended that Other Hours and Other Miles be dropped from the form entirely, as this information was unnecessary. One comment from a very large transit provider objected that the reporting of Deadhead Hours and Deadhead Miles would be overly burdensome, and recommended retaining the reporting of Total Actual Hours and Total Actual Miles.

FTA Response: FTA agrees with the last commenter, and will retain the reporting of Total Actual Hours and Total Actual Miles. In order to facilitate FTA's desire to reduce the confusion surrounding the definition of Total Actual Hours and Total Actual Miles on the S-10 Form, FTA will add auto-calculated lines for Deadhead Hours and Deadhead Miles on the S-10 Form for the 2008 Report Year. This will not impact reporting burden, and will clarify the relationship between Revenue Hours and Total Actual Hours and between Revenue Miles and Total Actual Miles. FTA withdraws its proposal to replace Charter Hours and Schoolbus Hours with Other Hours and Other Miles.

FTA also proposed to eliminate collecting information on Deadhead Hours, Deadhead Miles, Time Service Begins and Time Service Ends for vanpool, jitney, and público services. FTA also proposed to drop reporting of peak data on service times and vehicles in operation for ferryboat, aerial tramway, jitney, and público services. Finally, FTA proposed to exempt rail systems with 9 or fewer rail vehicles operated in maximum service (peak hour service) from the requirement to report Average Weekday Unlinked Passenger Trips and Actual Passenger Car Revenue Miles by four time categories: Weekday AM Peak, Weekday Midday, Weekday PM Peak and Weekday Other.

FTA received no comments on these proposals.

FTA Response: FTA adopts the above proposals. These requirements will appear in the 2008 Annual Manual.

(i) Employee Resources (R-10) Form

FTA proposed to add reporting of Paid Non-Work Hours to this form. This data was previously reported on the F-50 Form, which is being dropped.

FTA received two comments objecting to this proposal, arguing that the proposal is burdensome and that there is no compelling interest in collecting data on pay for work hours vs. non-work hours.

FTA Response: FTA withdraws this proposal.

(j) Maintenance Performance (R-20) Form

FTA proposed to drop the reporting requirement for Total Labor Hours for Inspection and Maintenance, as this information is already reported in the R-10 Form. FTA also proposed to require that this form be completed by transit providers for purchased transportation service, as it is currently only required for directly operated services. FTA received two comments in favor of this proposal.

FTA Response: FTA adopts the proposal to eliminate the reporting requirement for Total Labor Hours for Inspection and Maintenance for the 2008 Report Year. FTA defers adopting the proposal to make this form required for purchased transportation services until the 2009 Report Year. This guidance will be reflected in the 2008 Annual Manual and the 2009 Annual Manual, respectively.

(k) Energy Consumption (R-30) Form

FTA proposed to drop the lines on this form for certain rarely-used fuels, specifically, Methanol, Bunker Fuel, and Grain Additive. These fuels would still be reportable under the Other Fuels category. FTA also proposed to require that this form be completed for purchased transportation services (it is currently only required for directly operated services).

FTA received one comment in support of this proposal, with the caveat that it should not be made effective until the 2009 Report Year.

FTA Response: FTA agrees to adopt the above proposal, effective in the 2009 Report Year. This guidance will be reflected in the 2009 Annual Manual.

(l) Stations and Maintenance Facilities (A-10) Form

FTA proposed to require expanded reporting of the multi-modal nature of transit stations. FTA also proposed to require motorbus, trolleybus, and light rail services to report the number of stops and shelters in their systems.

FTA received two comments objecting to the above proposal as being overly burdensome, and as raising a number of difficult issues in defining exactly what facilities should be reported.

FTA Response: FTA withdraws this proposal. FTA will re-evaluate the concerns regarding definitions of this proposal and ways to minimize the reporting burden of this proposal for a future report year.

(m) Transit Way Mileage (A-20) Form

FTA proposed to merge this form with the Fixed Guideway Segments Form (S-20 Form). FTA received two comments objecting that although the forms both collect data on fixed guideways, merging the different data elements of the two forms would create a significant increase in reporting burden. Additionally, while a large number of fixed guideways are included on both forms, some fixed guideways (e.g. sidings and parallel tracks) only appear on the A-20 Form, whereas other fixed guideways (e.g. HOV lanes) only appear on the S-20 Form.

FTA Response: FTA withdraws this proposal. FTA will re-evaluate ways to eliminate the duplicate data collections on the A-20 and S-20 forms while minimizing reporting burden for a future report year.

(n) Revenue Vehicle Inventory (A-30) Form

FTA proposed to simply collect whether the vehicles are compliant with the Americans with Disabilities Act (ADA Accessible), and to not separately collect those vehicles that are ADA Accessible by virtue of having lifts and those that are ADA Accessible by virtue of having ramps or low floors. FTA also proposed to stop collecting Total Miles on Active Vehicles During this Time Period, as this information is infrequently used, is duplicative of information on total miles collected on the S-10 Form, and cannot be used as a measure of total miles from the previous year. FTA noted that it was retaining collection of Average Lifetime Miles per Active Vehicle as a measure of asset condition and age.

FTA received two comments in support of this proposal. A third comment also asked FTA to consider allowing reporters to estimate the Average Lifetime Miles per Active Vehicle when the vehicles have been acquired through a merger with a private operator, and the actual mileage is not available.

FTA Response: FTA adopts its proposal, but will defer implementation until the 2009 Report Year. This guidance will appear in the 2009 Annual Manual. FTA also adopts the commenter's suggestion for allowing estimation of Average Lifetime Miles per Active Vehicle in the case described. That guidance will appear in the 2008 Annual Manual.

Federal Funding Allocation (FFA-10) Form

FTA proposes to make this form required for all transit providers serving more than one urbanized area, or an urbanized area and a non-urbanized area in order to support the apportionment of Small Transit-Intensive Cities (STIC Grants.)

FTA received two comments in support of this proposal.

FTA Response: FTA adopts this proposal for the 2008 Report Year. This guidance will appear in the 2008 Annual Manual.

Issued in Washington, DC, this 1st day of July, 2008.
James S. Simpson,
Administrator.

[FR Doc. E8-18090 Filed 8-5-08; 8:45 am]

BILLING CODE 4910-57-P